FEDERAL COMMUNICATIONS COMMISSION

47 CFR Part 73

[MB Docket No. 14-66; RM-11689; DA 14-1222]

Radio Broadcasting Services; Custer, Michigan

AGENCY: Federal Communications Commission.

ACTION: Final rule.

SUMMARY: The Audio Division, at the request of Roy E. Henderson, substitutes FM Channel 260A for FM Channel 263A as the vacant allotment at Custer, Michigan. Channel 260A can be allotted at Custer, consistent with the minimum distance separation requirements of the Commission's rules, at coordinates 43-58-16 NL and 86-19-42 WL. The Government of Canada has concurred in the allotment of Channel 260A at Custer, Michigan, which is required because Custer is located within 320 kilometers (199 miles) of the U.S.-Canadian border. See SUPPLEMENTARY INFORMATION infra.

DATES: Effective October 6, 2014.

FOR FURTHER INFORMATION CONTACT: Deborah Dupont, Media Bureau, (202) 418-2700.

SUPPLEMENTARY INFORMATION: This is a synopsis of the Commission's Report and Order, MB Docket No. 14-66; DA 14-1222, adopted August 21, 2014, and released August 22, 2014. The full text of this document is available for inspection and copying during normal business hours in the FCC Information Center, Portals II, 445 12th Street SW., Room CY-A257, Washington, DC 20554. The complete text of this document also may be purchased from the Commission's duplicating contractor, Best Copy and Printing, Inc., 445 12th Street SW., Room CY-B402, Washington, DC, 20554, (800) 378-3160, or via the company's Web site, http://www.bcpiweb.com/. This document does not contain information collection requirements subject to the Paperwork Reduction Act of 1995, Public Law 104-13. In addition, therefore, it does not contain any information collection burden “for small business concerns with fewer than 25 employees,” pursuant to the Small Business Paperwork Relief Act of 2002, Public Law 107-198, see 44 U.S.C. 3506(c)(4). The Commission will send a copy of the Report and Order in a report to be sent to Congress and the Government Accountability Office pursuant to the Congressional Review Act, see U.S.C. 801(a)(1)(A).

List of Subjects in 47 CFR Part 73

Radio, Radio broadcasting.

Federal Communications Commission.
Nazifa Sawez,
Chief, Audio Division, Media Bureau.

For the reasons discussed in the preamble, the Federal Communications Commission amends 47 CFR part 73 as follows:

PART 73—RADIO BROADCAST SERVICES

1. The authority citation for part 73 continues to read as follows:

Authority: 47 U.S.C. 154, 303, 334, 336 and 339.

§ 73.202 [Amended]

2. Section 73.202(b), the Table of FM Allotments under Michigan, is amended by removing Channel 263A at Custer and by adding Channel 260A at Custer.

[FR Doc. 2014-21327 Filed 9-5-14; 8:45 am]

BILLING CODE 6712-01-P